DEPARTMENT OF COMMERCE

National Oceanic and Atmospheric Administration

RIN 0648-XC72

Marine Mammals; File No. 881-1758

AGENCY: National Marine Fisheries Service (NMFS), National Oceanic and Atmospheric Administration (NOAA), Commerce.

ACTION: Notice; issuance of permit amendment.

SUMMARY: Notice is hereby given that an amendment to scientific research Permit No. 881-1758-00 has been issued to the Alaska SeaLife Center (ASLC), 301 Railway Avenue, Seward, AK 99664 (Dr. Ian Dutton, Responsible Party).

ADDRESSES: The application and related documents are available for review upon written request or by appointment in the following offices:

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Amy Sloan or Tammy Adams, (301)713-2289.

SUPPLEMENTARY INFORMATION: On September 21, 2007, a notice was published in the Federal Register (72 FR 54001) that an application had been filed by the above named organization. The requested amendment has been issued under the authority of the Marine Mammal Protection Act of 1972 (16 U.S.C. 1361 et seq.), and the regulations governing the taking and importing of marine mammals (50 CFR part 216).

The permit holder requested authorization to add ringed (Phoca hispida), spotted (P. largha), ribbon (P. fasciata), and bearded (Erignathus barbatus) seals undergoing rehabilitation at the ASLC to the permit for the same studies currently permitted on harbor seals (P. vitulina). The applicant also proposed changes to protocols used on harbor seals undergoing rehabilitation, including removing bioelectrical impedance measurements and adding blubber ultrasound measurements for body condition assessment; and adding resting metabolic measurements to aid in the understanding of metabolic changes associated with health, growth, and dietary transitions. The request to add ice seals to the permit has been denied, pursuant to regulations for application procedures (50 CFR 216.33). The permit amendment authorizes the requested changes to protocols for the harbor seal research.

In compliance with the National Environmental Policy Act of 1969 (42 U.S.C. 4321 et seq.), a final determination has been made that the partial amendment is categorically excluded from the requirement to prepare an environmental assessment or environmental impact statement.

Dated: November 24, 2008.
P. Michael Payne,
Chief, Permits, Conservation and Education Division, Office of Protected Resources, National Marine Fisheries Service.

[FR Doc. E8-28722 Filed 12-3-08; 8:45 am]

BILLING CODE 3510-22-S